DEPARTMENT OF ENERGY

Federal Energy Regulatory Commission

[Docket No. RM01-5-000]

Electronic Tariff Filings; Notice of Discontinuance of FTP Uploads to the eTariff Sandbox

Take notice that on June 14, 2022, filers wanting to verify eTariff filings in the eTariff sandbox will no longer have the ability to upload XML files using FTP protocols as Microsoft is ending support for FTP. Instead, users will be able to verify their filings by uploading XML filings through a Commission website portal at https://etariff.ferc.gov/TariffSandbox.aspx.

Until June 14, 2022, both the FTP portal and the new web portal will be available for use and testing. More detailed instructions for using the web portal will be available on or before June 14th at: https://www.ferc.gov/sandbox-electronic-test-site.

To report any problems with testing the new web portal or for more information, contact the eTariff Advisory Staff at 202-502-6501 or etariffresponse@ferc.gov.

Dated: May 9, 2022.
Kimberly D. Bose,
Secretary.

[FR Doc. 2022-10357 Filed 5-12-22; 8:45 am]

BILLING CODE 6717-01-P